DEPARTMENT OF THE INTERIOR

National Park Service

[NPS-WASO-NAGPRA-12389; PCU00RP14.R50000-PPWOCRADN0]

Notice of Inventory Completion: University of Washington, Department of Anthropology, Seattle, WA

AGENCY: National Park Service, Interior.

ACTION: Notice.

SUMMARY: The University of Washington, Department of Anthropology, has completed an inventory of human remains, in consultation with the appropriate Indian tribes, and has determined that there is no cultural affiliation between the remains and any present-day Indian tribe. Representatives of any Indian tribe that believes itself to be culturally affiliated with the human remains may contact the Burke Museum acting on behalf of the University of Washington, Department of Anthropology. Disposition of the human remains to the Indian tribes stated below may occur if no additional requestors come forward.

DATES: Representatives of any Indian tribe that believes it has a cultural affiliation with the human remains should contact the University of Washington at the address below by April 29, 2013.

ADDRESSES: Dr. Peter Lape, Burke Museum, University of Washington, Box 353010, Seattle, WA 98195, telephone (206) 685-3849.

SUPPLEMENTARY INFORMATION: Notice is here given in accordance with the Native American Graves Protection and Repatriation Act (NAGPRA), 25 U.S.C. 3003, of the completion of an inventory of human remains under the control of the University of Washington, Department of Anthropology and in the physical custody of the Burke Museum. The human remains were removed from an unknown location, most likely near the Snake River, WA.

This notice is published as part of the National Park Service's administrative responsibilities under NAGPRA, 25 U.S.C. 3003(d)(3) and 43 CFR 10.11(d). The determinations in this notice are the sole responsibility of the museum, institution, or Federal agency that has control of the Native American human remains. The National Park Service is not responsible for the determinations in this notice.

Consultation

A detailed assessment of the human remains was made by the Burke Museum and University of Washington professional staff in consultation with representatives of the Confederated Tribes and Bands of the Yakama Nation; Confederated Tribes of the Colville Reservation; Confederated Tribes of the Umatilla Indian Reservation (previously listed as the Confederated Tribes of the Umatilla Reservation, Oregon); Nez Perce Tribe (previously listed as the Nez Perce Tribe of Idaho); and the Wanapum Band of Priest Rapids, a non-Federally recognized Indian group. The Shoshone-Bannock Tribes of the Fort Hall Reservation and the Shoshone Tribe of the Wind River Indian Reservation, Wyoming, were invited to consult but did not participate. In 1995, these remains were originally reported to the Confederated Tribes and Bands of the Yakama Nation; Confederated Tribes of the Chehalis Reservation; Confederated Tribes of the Colville Reservation; Hoh Indian Tribe (previously listed as the Hoh Indian Tribe of the Hoh Indian Reservation, Washington); Jamestown S'Klallam Tribe; Kalispel Indian Community of the Kalispel Reservation; Lower Elwha Tribal Community (previously listed as the Lower Elwha Tribal Community of the Lower Elwha Reservation, Washington); Lummi Tribe of the Lummi Reservation; Makah Indian Tribe of the Makah Indian Reservation; Muckleshoot Indian Tribe (previously listed as the Muckleshoot Indian Tribe of the Muckleshoot Reservation, Washington); Nisqually Indian Tribe (previously listed as the Nisqually Indian Tribe of the Nisqually Reservation, Washington); Nooksack Indian Tribe; Port Gamble Band of S'Klallam Indians (previously listed as the Port Gamble Indian Community of the Port Gamble Reservation, Washington); Puyallup Tribe of the Puyallup Reservation; Quileute Tribe of the Quileute Reservation; Quinault Indian Nation (previously listed as the Quinault Tribe of the Quileute Reservation, Washington); Sauk-Suiattle Indian Tribe; Shoalwater Bay Indian Tribe of the Shoalwater Bay Indian Reservation (previously listed as the Shoalwater Bay Tribe of the Shoalwater Bay Indian Reservation, Washington); Skokomish Indian Tribe (previously listed as the Skokomish Indian Tribe of the Skokomish Reservation, Washington); Spokane Tribe of the Spokane Reservation; Squaxin Island Tribe of the Squaxin Island Reservation; Stillaguamish Tribe (previously listed as the Stillaguamish Tribe of Washington); Suquamish Indian Tribe of the Port Madison Reservation; Swinomish Indians of the Swinomish Reservation; Tulalip Tribes of Washington (previously listed as the Tulalip Tribes of the Tulalip Reservation, Washington); and the Upper Skagit Indian Tribe. Hereafter, all tribes listed in this section are referred to as “The Consulted, Invited, and Notified Tribes.”

History and description of the remains

In 1985, human remains representing, at minimum, one individual (Specimen #7) were removed from an unknown location along the Snake River, most likely in Washington. No known individuals were identified. No associated funerary objects are present.

Determinations made by the University of Washington, Department of Anthropology

Officials of the University of Washington, Department of Anthropology, have determined that:

• Based on cranial morphology, the human remains are Native American.

• Pursuant to 25 U.S.C. 3001(2), a relationship of shared group identity cannot be reasonably traced between the Native American human remains and any present-day Indian tribe.

• According to final judgments of the Indian Claims Commission, the land from which the Native American human remains were removed is the aboriginal land of the Walla Walla, Palus, and Nez Perce. The Walla Walla are represented by the present day members of the Confederated Tribes of the Umatilla Indian Reservation (previously listed as the confederated Tribes of the Umatilla Reservation, Oregon). The Palus are represented by the present day Confederated Tribes and Bands of the Yakama Nation; Confederated Tribes of the Colville Reservation; Confederated Tribes of the Umatilla Indian Reservation (previously listed as the confederated Tribes of the Umatilla Reservation, Oregon); and the Nez Perce Tribe (previously listed as Nez Perce Tribe of Idaho) (hereafter referred to as “The Aboriginal Land Tribes”).

• Multiple lines of evidence, including treaties, Acts of Congress, and Executive Orders, indicate that the land from which the Native American human remains were removed is the aboriginal land of The Aboriginal Land Tribes.

• Other credible lines of evidence indicate that the land from which the Native American human remains were removed is the aboriginal land of The Aboriginal Land Tribes and the Wanapum Band of Priest Rapids, a non-Federally recognized Indian group.

• Pursuant to 25 U.S.C. 3001(9), the human remains described in this notice represent the physical remains of one individual of Native American ancestry.

• Pursuant to 43 CFR 10.11(c)(1), the disposition of the human remains may be to The Aboriginal Land Tribes and the Wanapum Band, a non-Federally recognized Indian group.

Additional Requestors and Disposition

Representatives of any Indian tribe that believes itself to be culturally affiliated with the human remains or any other Indian tribe that believes it satisfies the criteria in 43 CFR 10.11(c)(1) should contact Peter Lape, Burke Museum, University of Washington, Box 353010, Seattle, WA 98195, telephone (206) 685-3849, before April 29, 2013. Disposition of the human remains to The Aboriginal Land Tribes and the Wanapum Band, a non-Federally recognized Indian group may proceed after that date if no additional requestors come forward.

The University of Washington, Department of Anthropology is responsible for notifying The Consulted, Invited, and Notified Tribes that this notice has been published.

Dated: February 19, 2013.
Sherry Hutt,
Manager, National NAGPRA Program.

[FR Doc. 2013-07360 Filed 3-28-13; 8:45 am]

BILLING CODE 4312-50-P